DEPARTMENT OF TRANSPORTATION

Federal Aviation Administration

14 CFR Part 71

[Docket No. FAA-2003-15719; Airspace Docket No.03-ACE-61]

Modification of Class E Airspace; Seward, NE

Correction

In rule document 03-20407 beginning on page 47844 in the issue of Tuesday, August 12, 2003, make the following correction:

On page 47845, in the second column, under the heading Comments Invited, in the fourth line from the bottom, “ FAA-2003-15710”should read “FAA-2003-15719”.

[FR Doc. C3-20407 Filed 8-15-03; 8:45 am]

BILLING CODE 1505-01-D